DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Evaluations of Coastal Zone Management Act Programs: State Coastal Management Programs and National Estuarine Research Reserves.

OMB Control Number: 0648-0661.

Form Number(s): None.

Type of Request: Regular (revision and extension of a current information collection).

Number of Respondents: 209.

Average Hours per Response: Program manager information collection, 71 hours; stakeholder and partner survey, 15 minutes.

Burden Hours: 831.

Needs and Uses: The Coastal Zone Management Act of 1972, as amended (CZMA; 16 U.S.C. 1451 et seq.) requires that state coastal management programs and national estuarine research reserves developed pursuant to the CZMA and approved by the Secretary of Commerce be evaluated periodically. This request is for collection of information to accomplish those evaluations.

NOAA's Office for Coastal Management (OCM) conducts periodic evaluations of the 34 coastal management programs and 29 research reserves and produces written findings for each evaluation. OCM has access to documents submitted in cooperative agreement applications, performance reports, and certain documentation required by the CZMA and implementing regulations. However, additional information from each coastal management program and research reserve, as well as information from the program and reserve partners and stakeholders with whom each works, is necessary to evaluate against statutory and regulatory requirements. Different information collection subsets are necessary for (1) coastal management programs (2) their partners and stakeholders, (3) research reserves, and (4) their partners and stakeholders.

Affected Public: Business or other for-profit organizations; not-for-profit institutions; state, local, or tribal government; federal government.

Frequency: Every 5 or 6 years.

Respondent's Obligation: Program managers, Required to obtain or retain benefits; Program partners and stakeholders, Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-15165 Filed 7-16-19; 8:45 am]

BILLING CODE 3510-08-P